DEPARTMENT OF ENERGY

Federal Energy Regulatory Commission

[Docket No. RP04-274-000]

Kern River Gas Transmission Company, Notice of Informal Settlement Conference

September 16, 2004.

Take notice that an informal settlement conference will be convened in this proceeding commencing at 10 a.m. (e.s.t.) on Tuesday, September 28, 2004, continuing through Wednesday, September 29, 2004 at the Federal Energy Regulatory Commission, 888 First Street, NE., Washington, DC 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214).

For additional information, please contact Thomas J. Burgess (202) 502-6058.

Linda Mitry,
Acting Secretary.

[FR Doc. E4-2320 Filed 9-22-04; 8:45 am]

BILLING CODE 6717-01-P